DEPARTMENT OF STATE

[Public Notice 6088]

Bureau of Educational and Cultural Affairs (ECA) Request for Grant Proposals: Community College Initiative for Egypt

Announcement Type: New Cooperative Agreement.

Funding Opportunity Number: ECA/A/S/U-08-03.

Catalog of Federal Domestic Assistance Number: 00.000.

Key Dates:

Application Deadline: April 7, 2008.

Executive Summary: The Bureau of Educational and Cultural Affairs (ECA) announces an open competition for one or more assistance awards to administer the Community College Initiative for Egypt, which will support study by Egyptian undergraduate students at accredited U.S. community colleges. The multi-year program will bring a total of 1,000 students to U.S. community colleges from Egypt. The Initiative builds on the Community College Initiative announced at the U.S. University Presidents Summit on International Education, convened by the Secretary of State and the Secretary of Education in January 2006.

The Initiative will provide quality educational programs, professional development, employment skills and a deeper understanding of American society to underserved, non-elite Egyptian students, particularly women and students in their early and mid-twenties who already have some work experience. U.S. consortia of community colleges and other combinations of U.S. community college campuses meeting the provisions described in Internal Revenue Code section 501(c)(3) may submit proposals to cooperate with the Bureau in the administration and implementation of the Fiscal Year 2008 Community College Initiative for Egypt. U.S. consortia and other combinations of U.S. community colleges must identify a lead institution to receive and administer the award. The total amount of funding available for all program and administrative costs will be approximately $15.5 million. Applicants may apply to administer the entire program or a portion thereof. Proposals should indicate the number of participants that can be accommodated at the funding level that is proposed, based on detailed calculations of program and administrative costs. In order to maximize the number of student participants under this program, it is the Bureau's expectation that significant institutional and private sector funding and cost-sharing will be made available by cooperating institutions.

I. Funding Opportunity Description

Authority: Overall grantmaking authority for this program is contained in the Mutual Educational and Cultural Exchange Act of 1961, Public Law 87-256, as amended, also known as the Fulbright-Hays Act. The purpose of the Act is “to enable the Government of the United States to increase mutual understanding between the people of the United States and the people of other countries* * * to strengthen the ties which unite us with other nations by demonstrating the educational and cultural interests, developments, and achievements of the people of the United States and other nations* * * and thus to assist in the development of friendly, sympathetic and peaceful relations between the United States and the other countries of the world.” The funding authority for the program is provided through legislation.

Purpose: The Community College Initiative for Egypt will demonstrate the U.S. commitment to providing access to educational opportunities for a broad range of Egyptian undergraduate students. Through community college exchange initiatives, the Bureau hopes to engage the community college sector in the United States to increase the number of international students at U.S. community colleges and to reinforce community college efforts to build international ties. U.S. community colleges can make a unique contribution to international educational exchange by demonstrating the flexibility and relevance of American higher education and the manner in which community colleges provide quality technical and first-level professional education to vital sectors of society that are essential for nations to move forward economically and politically. They can also provide a model of lower-cost community-based higher education that offers wide access to skills development for existing jobs.

Egyptian students selected for academic study at accredited U.S. community colleges under this initiative will receive educational opportunities, professional development, and an exposure to American society that will enable them to return home with unique skills and experiences with which to contribute to the growth and development of Egyptian society. Students are expected to return to Egypt promptly upon completion of their programs. Upon return, it is anticipated that these students will enter the skilled work force and fill important needs in Egypt. Funding will not be provided to support the dependents of participants in this program.

Guidelines: Applicant institutions are requested to submit a narrative outlining a comprehensive strategy for the administration and implementation of the Community College Initiative for Egypt including the following program components: Identification of accredited U.S. community colleges to host students in clusters based on one or more of the fields of study that are listed in the following section; a system for acceptance and placement of students based on the nomination of candidates by the Fulbright Commission in Egypt for final approval by ECA; development and dissemination of pre-departure orientation materials; registration of participants in SEVIS on the Bureau's behalf for which ECA will provide the principal responsible officer; organization of post-arrival orientation programming; placement of students in programs lasting, in most cases, one academic year; enrichment programming; advising, monitoring and supporting participants; evaluation; and follow-up with program alumni. An applicant institution may propose to administer the entire program or a portion thereof based on the applicant's interest and capacity in relevant fields. A proposal should be consistent with the applicant's institutional capacities and the range of fields in which the institutions have expertise.

The multi-year program will bring a total of approximately 1,000 students from Egypt to study at U.S. community colleges. We anticipate that approximately 450 to 475 students from Egypt will participate in the Fiscal Year 2008 Initiative. The budget should provide funding for round-trip travel, tuition, books, and living costs as well as costs for program administration. Cost-sharing is expected from institutions applying to cooperate with the Bureau on this Initiative. Applicant institutions are encouraged to include third-party contributions in their proposals.

For each field of study, students should be clustered at one or more colleges with a strong program of instruction in the field. In most cases, colleges will place students in certificate programs lasting one academic year. Colleges may also offer students two-year programs leading either to a certificate or an Associate Degree, where two academic years are necessary to prepare students for employment. Those proposals that focus resources on more costly two-year programs should demonstrate significant levels of cost-sharing. Proposals should anticipate the placement of students in the following fields:

• Agriculture

• Applied Engineering

• Business Management and Administration

• Health Professions including Nursing

• Information Technology

• Media

• Tourism and Hospitality Management

Pre-departure orientation materials and on-campus arrival orientation programs should be provided. The Bureau will provide support for intensive English language instruction in Egypt to those students who lack adequate English to function effectively in the U.S. classroom as evidenced by standardized test scores; this instruction in Egypt will not be the responsibility of the cooperating organization.

Applicant organizations should describe English as a Second Language programs and services that they are prepared to provide during the U.S. exchange to students needing additional language work.

Beyond the classroom, host campuses should plan to provide practical, community-oriented, and service learning opportunities to participating students. Proposals should explain how students will engage in enrichment activities, and should include creative ideas for exposing students broadly to American institutions, society and culture. For example, these activities may include volunteer work; presentations to college classes, local schools and the community; involvement with local families; and attendance at educational and cultural events with a U.S. focus.

Proposals should demonstrate depth of experience in conducting and administering complex and multi-faceted international education programs. Proposals should exhibit not only programmatic and logistical expertise but also a proven track record (four or more years) of financial management, including a demonstrated ability to manage U.S. government funds. Proposals should provide a plan for continued follow-on activity (without Bureau support), such as tracking and maintaining updated lists of all alumni and facilitating follow-up activities with alumni, including list serves. Proposals should also convey an understanding of Egypt's culture, economy, and society.

Proposal programs must conform with the Bureau requirements and guidelines outlined in the Solicitation Package, which includes the Request for Grant Proposals (RFGP), the Project Objectives, Goals and Implementation (POGI) and the Proposal Submission Instructions (PSI).

In a cooperative agreement, the Bureau is substantially involved in program activities above and beyond routine grant monitoring. Bureau activities and responsibilities for this program include:

(1) Participation in the design and direction of program activities;

(2) Approval of key personnel;

(3) Approval and input on program timelines and agendas;

(4) Guidance in execution of all program components;

(5) Review and approval of all program publicity and other materials;

(6) Approval of host campuses;

(7) Final selection of participating students;

(8) Approval of changes to students' proposed academic field or institution;

(9) Approval of decisions related to special circumstances or problems throughout duration of program;

(10) Oversight of SEVIS-related issues;

(11) Assistance with participant emergencies;

(12) Liaison with the Fulbright Commission in Egypt and desk officers for Egypt at the State Department.

A total of $15.5 million in FY 2007/FY 2008 Economic Support Funds will support one or more awards under this competition. Programs should begin on or about July 1, 2008 and will run through June 30, 2011. Awards will include funds for both the administrative and program portions of the program such as: Selection, placement and monitoring of all students starting academic programs in Fall 2009; the preparation of pre-departure orientation materials and the organization of on-campus orientation programs in the U.S. for students; oversight and monitoring of practical and service learning opportunities for students; evaluation of all aspects of the program; and the design and administration of creative programs of follow-up support and coordination with program alumni.

II. Award Information

Type of Award: Cooperative Agreement.

ECA's level of involvement in this program is listed under number I above.

Fiscal Year Funds: $15,500,000 in FY 2007/FY 2008 Economic Support Funds (ESF) has been transferred to the Bureau to support this competition.

Approximate Total Funding: $15,500,000.

Approximate Number of Awards: Pending the review and approval of successful proposals, the Bureau intends to make approximately one to four awards under this competition.

Approximate Average Award: The size of the awards will depend on the number and quality of the proposals submitted, and on the distribution of fields on which the recommended proposals focus.

Anticipated Award Date: Pending availability of funds, July 1, 2008.

Anticipated Project Completion Date: June 30, 2011.

Additional Information:

Pending successful implementation of this program and the availability of funds in subsequent fiscal years, it is ECA's intent to provide up to two additional awards to successful institutions for subsequent cohorts of students in addition to those covered by the initial award.

III. Eligibility Information

III.1. Eligible applicants: Applications may be submitted by public and private non-profit organizations meeting the provisions described in Internal Revenue Code section 26 U.S.C. 501(c)(3) including consortia of accredited U.S. community colleges, or other combinations of multiple community college campuses. Consortia must designate a lead institution to receive and administer the award.

III.2. Cost-Sharing or Matching Funds: There is no minimum or maximum percentage required for this competition. However, the Bureau encourages applicants to provide maximum levels of cost-sharing and funding in support of its programs. Cost-sharing at a significant level will be required for arrangements that include study for more than one academic year.

When cost-sharing is offered, it is understood and agreed that the applicant must provide the amount of cost-sharing as stipulated in its proposal and later included in an approved cooperative agreement. Cost-sharing may be in the form of allowable direct or indirect costs. For accountability, organizations must maintain written records to support all costs which are claimed as contributions, as well as costs to be paid by the Federal government. Such records are subject to audit. The basis for determining the value of cash and in-kind contributions must be in accordance with OMB Circular A-110 (Revised), Subpart C.23—Cost-Sharing and Matching. In the event that the minimum amount of cost-sharing as stipulated in the approved budget is not provided, ECA's contribution will be reduced in like proportion.

III.3. Other Eligibility Requirements: Bureau grant and cooperative agreement guidelines require that organizations with less than four years experience in conducting international exchanges be limited to $60,000 in Bureau funding. Due to the scope and complexity of this program, organizations with less than a four-year track record in conducting international exchanges are ineligible to apply under this competition.

IV. Application and Submission Information

Note: Please read the complete announcement before sending inquiries or submitting proposals. Once the RFGP deadline has passed, Bureau staff may not discuss this competition with applicants until the proposal review process has been completed.

IV.1 Contact Information to Request an Application Package: Please contact the Office of Global Educational Programs, ECA/A/S/U, Room 349, U.S. Department of State, SA-44, 301 4th Street, SW., Washington, DC 20547; telephone 202-453-8643; fax 202-453-8890; e-mail GradKX@state.gov to request a Solicitation Package. Please refer to the Funding Opportunity Number (ECA/A/S/U-08-03) located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Karene Grad and refer to the Funding Opportunity Number (ECA/A/S/U-08-03) located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Bureau of Educational and Cultural Affairs places critically important emphases on the security and proper administration of the Exchange Visitor (J visa) Programs and adherence by cooperating organizations and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The cooperating organizations will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the cooperating organizations will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable timeframe), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Cooperating organizations will be required to provide reports analyzing their evaluation findings to the Bureau in their regular program reports. All data collected, including survey responses and contact information, must be maintained for a minimum of three years and provided to the Bureau upon request.

IV.3d.4. Describe in your proposal your plans for: Overall program management, staffing, coordination with ECA and with community colleges enrolling clusters of students, and learning and service opportunities for students. Please provide a staffing plan which outlines the responsibilities of each staff person and explains which staff members will be accountable for each program responsibility.

IV.3e. Please take the following information into consideration when preparing your budget:

IV.3e.1. Applicants must submit a comprehensive budget for the complete program or a portion of the program. The total funding available for this program is approximately $15,500,000 for both program and administrative costs.

Applicants may apply to administer total funds of less than $15,500,000, proportionate with the program being proposed. Please indicate clearly the number of students to be funded and the budget total for both administrative and program costs. Applicant institutions must present a summary budget as well as breakdowns including both administrative and program budgets. Applicants may provide separate sub-budgets for each program component, phase, location, or activity to provide clarification.

IV.3e.2. Allowable costs for the program and additional budget guidance are outlined in detail in the POGI document.

Please refer to the Solicitation Package for complete budget guidelines and formatting instructions.

IV.3f. Application Deadline and Methods of Submission:

Application Deadline Date: April 7, 2008.

Reference Number: ECA/A/S/U-08-03.

Methods of Submission: Applications may be submitted in one of two ways:

(1.) In hard-copy, via a nationally recognized overnight delivery service (i.e., DHL, Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission, please make sure to include one extra copy of the completed SF-424 form and place it in an envelope addressed to “ECA/EX/PM”.

The original and ten copies of the application should be sent to: U.S. Department of State, SA-44, Bureau of Educational and Cultural Affairs, Ref.: ECA/A/S/U-08-03, Program Management, ECA/EX/PM, Room 534, 4th Street, SW., Washington, DC 20547.

Applicants submitting hard-copy applications must also submit the “Executive Summary” and “Proposal Narrative” sections of the proposal in text (.txt) or Microsoft Word format on a PC-formatted disk. The Bureau will provide these files electronically to the appropriate Public Affairs Section at the U.S. embassy in Egypt for its review.

IV.3f.2. Submitting Electronic Applications. Applicants have the option of submitting proposals electronically through Grants.gov (http://www.grants.gov). Complete solicitation packages are available at Grants.gov in the “Find” portion of the system. Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support. Contact Center Phone: 800-518-4726. Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process. The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission as well as the objectives of the Community College Initiative for Egypt. Proposals should demonstrate an understanding of Egypt and of the needs of Egyptian students as related to the program goals. A detailed agenda and relevant work plan should demonstrate substantive undertakings and logistical capacity for students placed in field-related clusters. The agenda and plan should adhere to the program overview and guidelines described above.

2. Ability to achieve program objectives: Objectives should be reasonable, feasible, and flexible. Proposals should clearly demonstrate how the institution will meet the Community College Initiative for Egypt's objectives and plan and should address each program component.

3. Multiplier effect/impact: Proposals should strengthen long-term mutual understanding, including maximum sharing of information and individual linkages. The proposed strategy should maximize the Program's potential to maintain community college links with Egyptian alumni.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity and Ability: Proposed personnel and institutional resources should be adequate and appropriate to achieve the program's goals. Proposals should describe the applicant's knowledge of, or prior experience with, students from Egypt, and the applicant's experience in educating students in the targeted subject fields. Proposals should demonstrate an institutional record of successful exchange programs involving the hosting of international students, including responsible fiscal management and full compliance with all reporting requirements for past Bureau grants or cooperative agreements. The Bureau will consider the past performance of prior recipients and the demonstrated potential of new applicants.

6. Follow-on Activities: Proposals should provide a plan for continued follow-on activity (without Bureau support) ensuring that Bureau supported programs are not isolated events. Activities should include tracking and maintaining updated lists of all alumni and facilitating follow-up activities with alumni, including electronic list serves.

7. Project Evaluation: Proposals should include a plan and methodology to evaluate the program's degree of success in meeting program objectives, both as the activities unfold and at the end of the program. A draft survey questionnaire or other technique plus description of a methodology to use to link outcomes to original project objectives is recommended. Successful applicants will be expected to submit intermediate reports after each project component is concluded, or quarterly, whichever is less frequent.

8. Cost-effectiveness: The overhead and administrative components of the proposal, including salaries and honoraria, should be kept as low as possible. All other items should be necessary and appropriate. Proposals should maximize cost-sharing through institutional direct funding contributions and private sector support. Budget estimates should be as accurate as possible over the full period of the cooperative agreement.

VI. Award Administration Information

VI.1a. Award Notices: Final awards cannot be made until funds have been appropriated by Congress, allocated and committed through internal Bureau procedures. Successful applicants will receive an Assistance Award Document (AAD) from the Bureau's Grants Office. The AAD and the original grant or cooperative agreement proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://exchanges.state.gov/education/grantsdiv/terms.htm#articleI.

VI.3. Reporting Requirements: You must provide ECA with a hard copy original plus one copy of the following reports:

(1) Quarterly financial reports;

(2) Annual program reports for the first and second year of the agreement;

(3) And a final program and financial report no more than 90 days after the expiration of the award.

Cooperating organizations will be required to provide reports analyzing their evaluation findings to the Bureau in their regular program reports. (Please refer to IV. Application and Submission Instructions (IV.3.d.3) above for Program Monitoring and Evaluation information).

All data collected, including survey responses and contact information, must be maintained for a minimum of three years and provided to the Bureau upon request.

All reports must be sent to the ECA Grants Officer and ECA Program Officer listed in the final assistance award document.

VII. Agency Contacts

For questions about this announcement, contact: Karene Grad, Office of Global Educational Programs, ECA/A/S/U, Room 349, ECA/A/S/U-08-03, U.S. Department of State, SA-44, 301 4th Street, SW., Washington, DC 20547, telephone 202-453-8643, fax 202-453-8891, e-mail GradKX@state.gov.

All correspondence with the Bureau concerning this RFGP should reference the above title and number ECA/A/S/U-08-03.

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 23, 2008.
C. Miller Crouch,
Acting Assistant Secretary, Bureau of Educational and Cultural Affairs, Department of State.

[FR Doc. E8-1752 Filed 1-30-08; 8:45 am]

BILLING CODE 4710-05-P